NATIONAL SCIENCE FOUNDATION

Notice of Permit Applications Received Under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45, Part 670 of the Code of Federal Regulations. This is the required notice of a requested permit modification.

DATES: Interested parties are invited to submit written data, comments, or views with respect to this permit application by September 27, 2007. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Description of Permit Modification Requested: The Foundation issued a permit (2007-007) to Dr. Markus Horning on October 12, 2006. The issued permit allows the applicant to restrain/immobilize up to 48 Weddell seals over a 2 year period, tag, collect samples and temporarily apply instrumentation.

The applicant requests modifications to his permit to:

(1) Pre-tag adult females >21 years (non-pregnant, non-lactating) only if they are encountered at a time when they cannot be properly instrumented (bad weather or all instruments already deployed). Pre-tagging would involve up to 2-6 adult females and would allow for easier tracking and location for further instrumentation.

(2) Increase the number of Weddell seals sampled from 48 to 60.

(3) Opportunistically collect and export to the U.S. up to 100 Weddell seal fecal samples for future assessment of the cumulative effect of research activities on Weddell seals, by way of analysis of stress hormone levels (corticosteroids).

(4) Enter the Cape Royds Antarctic Specially Protected Area (ASPA 121) only on a contingency basis should a seal wander into the area and the applicant needs to retrieve an instrument package.

Location: McMurdo Sound sea ice.

Dates: October 1, 2007 to February 28, 2008.

Nadene G. Kennedy,
Permit Officer, Office of Polar Programs.

[FR Doc. E7-16932 Filed 8-27-07; 8:45 am]

BILLING CODE 7555-01-P